ENVIRONMENTAL PROTECTION AGENCY

40 CFR Part 52

[VA099-5048a; FRL-6861-3]

Approval and Promulgation of Air Quality Implementation Plans; Virginia; Withdrawal of direct Final Rule

AGENCY: Environmental Protection Agency (EPA).

ACTION: Withdrawal of direct final rule.

SUMMARY: Due to an adverse comment, EPA is withdrawing the direct final rule to approve a revision to the opacity limit for drier stacks at the Georgia Pacific Corporation Softboard Plant in Jarratt, VA. In the direct final rule published on July 19, 2000 (65 FR 44683), we stated that if we received adverse comment by August 18, 2000, the rule would be withdrawn and not take effect. EPA subsequently received an adverse comment. EPA will address the comment received in a subsequent final action based upon the proposed action also published on July 19, 2000 (65 FR 44709). EPA will not institute a second comment period on this action.

EFFECTIVE DATE: The Direct final rule is withdrawn as of August 30, 2000.

FOR FURTHER INFORMATION CONTACT: Ruth E. Knapp, Technical Assessment Branch, Mailcode 3AP22, U.S. Environmental Protection Agency, Region III, 1650 Arch Street, Philadelphia, Pennsylvania, 19103. Phone (215) 814-2191 or e-mail knapp.ruth@epa.gov.

List of Subjects in 40 CFR Part 52

Environmental protection, Air pollution control, Intergovernmental relations, Incorporation by reference, Particulate matter, Reporting and recordkeeping requirements.

Dated: August 21, 2000.
Bradley M. Campbell,
Regional Administrator, Region III.

Accordingly, the amendment to the table in § 52.2420(d) which added the entry for Georgia-Pacific Corporation—Jarratt Softboard Plant is withdrawn as of August 30, 2000.

[FR Doc. 00-22161 Filed 8-29-00; 8:45 am]

BILLING CODE 6560-50-P